DEPARTMENT OF ENERGY

Federal Energy Regulatory Commission

[Project No. 2290-122]

Southern California Edison Company; Notice of Intent To File License Application, Filing of Pre Application Document (Pad), Commencement of Pre Filing Process, and Scoping; Request for Comments on the Pad and Scoping Document, and Identification of Issues and Associated Study Requests

a. Type of Filing: Notice of Intent to File License Application for a New License and Commencing Pre-filing Process.

b. Project No.: 2290-122.

c. Dated Filed: September 22, 2021.

d. Submitted By: Southern California Edison Company (SCE).

e. Name of Project: Kern River No. 3 Hydroelectric Project (Kern 3 Project).

f. Location: The project is located on the North Fork Kern River and on Salmon and Corral Creeks in Kern and Tulare Counties, California. The existing FERC project boundary encompasses a total of 234.6 acres of land, consisting of 9.4 acres of land owned by SCE and 225.2 acres of federal land in Sequoia National Forest administered by the U.S. Forest Service.

g. Filed Pursuant to: 18 CFR part 5 of the Commission's Regulations.

h. Potential Applicant Contact: Martin Ostendorf, Senior Manager, Southern California Edison Company, 1515 Walnut Grove Avenue, Rosemead, CA 91770; (559) 893-2033; martin.ostendorf@sce.com.

i. FERC Contact: Quinn Emmering at (202) 502-6382 or email at quinn.emmering@ferc.gov.

j. Cooperating Agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) The U.S. Fish and Wildlife Service and/or the National Oceanic and Atmospheric Administration Fisheries under section 7 of the Endangered Species Act and the joint agency regulations thereunder at 50 CFR part 402 and (b) the State Historic Preservation Office, as required by section 106, National Historic Preservation Act, and the implementing regulations of the Advisory Council on Historic Preservation at 36 CFR 800.2.

l. With this notice, we are designating SCE as the Commission's non-federal representative for carrying out informal consultation, pursuant to section 7 of the Endangered Species Act and section 106 of the National Historic Preservation Act.

m. SCE filed with the Commission a Pre-Application Document (PAD), including a proposed process plan and schedule, pursuant to 18 CFR 5.6 of the Commission's regulations.

n. In addition to publishing the full text of this document in the Federal Register, the Commission provides all interested persons an opportunity to view and/or print the contents via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCONlineSupport@ferc.gov or call toll-free, (866) 208-3676 or TYY, (202) 502-8659.

Register online at https://ferconline.ferc.gov/FERCOnline.aspx to be notified via email of new filing and issuances related to this or other pending projects. For assistance, contact FERC Online Support.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from staff related to the merits of the potential application must be filed with the Commission.

The Commission strongly encourages electronic filing. Please file all documents using the Commission's eFiling system at https://ferconline.ferc.gov/FERC.aspx. Commenters can submit brief comments up to 6,000 characters, without prior registration, using the eComment system at https://ferconline.gov/QuickComment.aspx. You must include your name and contact information at the end of your comments. For assistance, please contact FERC Support at FERCOnlineSupport@ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2290-122.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by January 20, 2022.

p. The Commission's scoping process will help determine the required level of analysis and satisfy the National Environmental Policy Act (NEPA) scoping requirements, irrespective of whether the Commission prepares an environmental assessment or environmental impact statement.

Scoping Meetings

Due to on-going concerns with large gatherings related to COVID-19, we do not intend to hold in-person public scoping meetings or an in-person environmental site review. Rather, Commission staff will hold two public scoping meetings using a telephone conference line. The daytime scoping meeting will focus on resource agency, Indian tribes, and non-governmental organization (NGO) concerns, while the evening scoping meeting will focus on receiving input from the public. We invite all interested agencies, Native American tribes, NGOs, and individuals to attend one of these meetings to assist us in identifying the scope of environmental issues that should be analyzed in the NEPA document. Additionally, a virtual site tour of the Kern 3 Project is available on SCE's website. The dates and times of the meetings as well as how to access the virtual site tour are listed below.

Virtual site tour of the project: Access online at: www.sce.com/regulatory/hydro-licensing/kr3.

Meeting for resource agencies, Tribes, and NGOs: Tuesday, December 14, 2021, 9:00 a.m.-12:00 p.m. PST. Call in number: (415) 527-5035. Access code: 2762 739 2357. When prompted for attendee ID: Press #.

Meeting for the general public: Tuesday, December 14, 2021, 6:00 p.m.-8:00 p.m. PST. Call in number: (415) 527-5035. Access code: 2762 506 0330. When prompted for attendee ID: Press #.

SD1, which outlines the subject areas to be addressed in the environmental document, was mailed to the individuals and entities on the Commission's mailing list and SCE's distribution list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Meeting Objectives

At the scoping meetings, Commission staff will: (1) Initiate scoping of the issues; (2) review and discuss existing conditions; (3) review and discuss existing information and identify preliminary information and study needs; (4) review and discuss the process plan and schedule for pre-filing activity that incorporates the time frames provided for in Part 5 of the Commission's regulations and, to the extent possible, maximizes coordination of federal, state, and tribal permitting and certification processes; and (5) discuss the potential of any federal or state agency or Indian tribe to act as a cooperating agency for development of an environmental document. Meeting participants should come prepared to discuss their issues and/or concerns. Please review the PAD in preparation for the scoping meetings. Directions on how to obtain a copy of the PAD and SD1 are included in item n of this document.

Meeting Procedures

Commission staff will be moderating the scoping meetings. The meetings will begin promptly at their respective start times listed above. After calling the phone number listed above, enter the correct access code and when prompted to enter the attendee ID press the `#' button (no ID number is required). All participants will be automatically muted upon joining the meeting.

At the start of the meeting, staff will provide further instructions regarding the meeting setup, agenda, and time period for comments and questions. We ask for your patience as staff present information and field participant comments in orderly manner. To indicate you have a question or comment, press * and 3 to virtually “raise your hand”. Oral comments will be limited to 5 minutes in duration for each participant. The meetings will be recorded by a stenographer and will be filed to the public record of the project.

Please note, that if no participants join the meetings within 15 minutes after the start time, staff will end the meeting and conference call. The meetings will end after participants have presented their oral comments or at the specified end time, whichever occurs first.

Dated: November 22, 2021.
Kimberly D. Bose,
Secretary.

[FR Doc. 2021-25940 Filed 11-26-21; 8:45 am]

BILLING CODE 6717-01-P